DEPARTMENT OF STATE

[Public Notice 4669]

Bureau of Educational and Cultural Affairs Request for Grant Proposals: U.S.-Russia Volunteer Initiative for Historical and Cultural Preservation

SUMMARY: The Office of Citizen Exchanges of the Bureau of Educational and Cultural Affairs (ECA) invites applicants to submit proposals for programs that promote volunteerism and cooperation between the United States and the Russian Federation. U.S.-based public and private non-profit organizations meeting the provisions described in Internal Revenue Code section 26 U.S.C. 501(c)(3) may submit proposals to conduct international volunteer programs for young professionals from the United States and the Russian Federation to work on cultural and historical preservation projects.

Important Note: This Request for Grant Proposals contains language in the “Shipment and Deadline for Proposals” section that is significantly different from that used in the past. Please pay special attention to procedural changes as outlined below.

Announcement Title and Number: All correspondence with ECA concerning this RFGP should reference the above title and number ECA/PE/C/EUR-04-50.

FOR FURTHER INFORMATION CONTACT: The Office of Citizen Exchanges, ECA/PE/C/EUR, Room 224, U.S. Department of State, SA-44, 301 4th Street, SW., Washington, DC 20547, Attention: U.S.-Russia Volunteer Initiative-Historical/Cultural Preservation, telephone number: 202-619-5330, fax number 202-619-435, or GeorgeMD@state.gov to request a Solicitation Package. The Solicitation Package consists of the Request for Grant Proposals (RFGP), the Proposal Submission Instructions, and ECA's Diversity Statement. Please specify Bureau Program Officer Michael George on all inquiries and correspondence.

Please read the complete Federal Register announcement before sending inquiries or submitting proposals. Once the RFGP deadline has passed, Bureau staff may not discuss this competition with applicants until the proposal review process has been completed.

To Download a Solicitation Package Via Internet: The entire Solicitation Package may be downloaded from ECA's Web site at http://exchanges.state.gov/education/RFGPs. Please read all information before downloading.

General Program Guidelines: In September 2003, President George W. Bush and President Vladimir Putin highlighted the need for closer cooperation between the U.S. and Russia in social and humanitarian fields and for greater contact among young people of both countries. As a result, the U.S. and Russian governments developed the U.S.-Russia Volunteer Initiative (USRVI) to engage private individuals, organizations, and businesses in both countries in cooperative volunteer activities. The program seeks to encourage cooperation among young professionals from the United States and Russia under the premise that people-to-people contacts broaden awareness of shared interests and common values between countries.

The principal objectives of the overall U.S.-Russia Volunteer Initiative are:

• To foster volunteerism in Russia and the United States by encouraging collaboration on a range of issues of interest to both societies;

• To develop substantive and sustainable linkages between Russian and U.S. non-governmental organizations, voluntary service and professional associations, government entities, and the business sector;

• To promote understanding of different approaches to problems common to both the United States and Russia; and

• To eventually apply U.S. and Russian expertise toward socioeconomic and democratic development in third countries.

The U.S. government will provide funding for pilot projects in three themes of mutual U.S.-Russian interest and expertise: information and communication technology, HIV/AIDS prevention, and historical/cultural preservation. This Request for Grant Proposals (RFGP) covers the historical/cultural preservation theme only.

ECA and the U.S. Agency for International Development (USAID) will oversee USRVI components. ECA will select the U.S. implementing organization for the historical/cultural preservation theme, and USAID will issue a separate solicitation for projects in the information and communication technology and HIV/AIDS prevention themes (USAID's program information and Request for Applications may be found at http://www.fedgrants.gov/Applicants/AID/OM/MOS/postdate_1.html). The Russian government has identified the Russian Union of Youth as the primary implementing organization for the USRVI in Russia. A bi-national Steering Committee will coordinate activities between the Russian Union of Youth and U.S. implementing organizations in all thematic areas. Proposals should demonstrate a willingness to consult closely with the designated program officer at ECA, the Public Affairs Section (PAS) at the U.S. embassy in Moscow, and the USRVI Steering Committee. Proposals must express a willingness to coordinate activities in Russia with the Russian Union of Youth to the extent requested by ECA, PAS, and the Steering Committee.

Volunteer Initiative for Historical/Cultural Preservation

ECA seeks proposals that would foster volunteerism and cooperation between young professionals from the United States and Russia in the field of historical and cultural preservation. Proposals should include a two-way exchange that includes reciprocal volunteer experiences in U.S. and Russian communities for mixed teams of U.S. and Russian volunteers. Programs should focus on historic structures, districts, or sites outside of major cities in the U.S. and Russia.

ECA funding available for USRVI historical and cultural preservation programs is approximately $125,000. ECA anticipates awarding one grant for this competition.

The goals of the U.S.-Russia Volunteer Initiative for Historical and Cultural Preservation are:

(1) To foster volunteerism in Russia and the U.S. through collaboration on historical and cultural preservation projects in both countries;

(2) To develop professional and personal linkages between Russian and U.S. volunteers, host institutions, and communities that will lead to sustained interaction;

(3) To promote understanding of preservation policies and techniques used in the United States and Russia; and

(4) To eventually contribute U.S. and Russian volunteer expertise to historical and cultural preservation efforts in third countries.

Final grant awards will require formal acknowledgement of ECA funding for the program in all materials. ECA will require successful applicants to invite representatives of the U.S. embassy in Moscow or U.S. consulates to participate in program sessions/site visits.

Selection of Participants

Volunteers must be young professionals (ages 18-30) who are citizens of either the U.S. or Russia. Proposals should clearly describe the participant recruitment and merit-based selection process. Ideally, participants would have language skills that are sufficient and appropriate for their volunteer placements. ECA, PAS/U.S. Embassy Moscow, and the USRVP Steering Committee retain the right to review all participant nominations and to accept or refuse participants recommended by grantee institutions. For Russian participants, priority for exchange components will be given to those who have not previously traveled to the United States.

Successful applicants must agree to submit the names of proposed Russian participants to ECA and PAS approximately eight weeks in advance of the scheduled start of U.S.-based activities. Once participants are approved, ECA will issue DS-2019 forms for participants traveling to the U.S. and will forward these forms to PAS for visa processing. ECA will enter all participant data into the SEVIS system. Programs must comply with J-1 visa regulations. See the section below on requirements for maintenance of and provision to ECA of data on participants and program activities.

Suggested Program Designs

ECA supports exchanges and training programs that enhance linkages and partnerships between the U.S. and other countries and that offer practical information and experience to assist individuals and groups with their professional responsibilities. Strong proposals usually have the following characteristics:

• An assessment of project needs that is relevant to the target country or region (proposals that request resources for an initial needs assessment may be deemed less competitive);

• A clear, convincing plan showing how ECA-funded activities will achieve results;

• Schedules for each program activity;

• A description of participant selection processes;

• Letters of support from local and U.S. partners (proposals that illustrate an ability to arrange volunteer placements with letters of support from prospective host institutions will receive higher priority);

• A timeline for the entire grant period;

• An outline of relevant expertise in cultural and historical preservation and regional knowledge;

• An outline of relevant experience managing exchange, internship, or volunteer programs for participants from/in Russia or other countries in Eurasia or Eastern Europe;

• Resumes of experienced staff who have demonstrated a commitment to monitor projects and ensure implementation;

• A comprehensive evaluation plan to determine whether program outcomes respond effectively to issues identified in the needs assessment; and

• A post-grant plan demonstrating the grantee organization's commitment to maintaining contacts initiated through the program. Applicants should discuss ways that U.S. and Russian volunteers or host institutions could collaborate on projects in third countries after the ECA-funded grant has concluded. (See Review Criterion #6 below for more information on post-grant activities.)

Proposals must focus on international volunteer exchanges between the United States and Russia. ECA anticipates that the first exchanges would begin in August 2004. Exchanges must provide an individualized volunteer project that each participant can complete with local host organizations in the U.S. and Russia. Volunteers may be placed individually or in teams. Projects may cover a range of activities, including historical documentation, building restoration, archaeological site management, conservation and historical preservation activities, and the preparation of interpretive materials for the public. Programs should enable volunteers to contribute their knowledge and skills to benefit their own and other communities. Volunteers should also gain a better understanding of the host country's architectural or cultural heritage from their experience. Examples of appropriate projects include, but are not limited to:

• Community outreach campaigns for conservation of endangered sites or structures;

• Information campaigns to increase public interest in places of historic/cultural significance;

• Development of interpretive exhibits on local areas or monuments;

• Community-based initiatives to harmonize economic development with the historic character or cultural significance of local districts or sites.

Participants should have networking and information sharing opportunities throughout the grant period. ECA encourages applicants to include training-of-trainer (TOT) workshops in their program plan. These activities should help participants strengthen their professional and volunteer skills, share their experiences with committed people, and become active in a practical and valuable way in their home countries.

ECA anticipates that each volunteer exchange will be between one and three months in duration. Grantee organizations must describe the method of covering meals, lodging, and incidental expenses for volunteers in both the U.S. and Russia. ECA encourages applicants to arrange homestays for volunteers; applicants who propose to do so should describe the recruitment, selection, and volunteer matching procedures for host families. Proposals should address language and interpreting issues.

Programs should propose to work with a range of host institutions where volunteer efforts are welcome and can make a difference. Such institutions may include, but are not limited to, State historic preservation offices, local historical organizations, cultural and professional associations, government agencies, and volunteer organizations. Proposals should include a plan to designate a local facilitator or mentor for the duration of each placement. Host organizations should include volunteers in as many different aspects of the work and activities of the institution as possible. Volunteers should be expected to work to the same professional standards as the rest of the staff, and they should be afforded opportunities to meet with other preservation professionals. Proposals should list the responsibilities of the applicant, subcontractors, partner organizations, and local host organizations.

Applicants may propose to work with partner organizations in Russia in order to conduct volunteer programs for U.S. participants. Such partnerships should assist Russian organizations' institutional capacity and stability. Overseas partner organizations must agree to work within the USRVI program framework involving ECA, PAS, the Russian Union for Youth, and the USRVI Steering Committee mentioned above.

Activities Ineligible for Support

The Office of Citizen Exchanges does not support proposals limited to conferences or seminars (i.e., one to fourteen-day programs with plenary sessions, main speakers, panels, and a passive audience). It will support conferences only when they are a small part of a larger project in duration that is receiving Bureau funding from this competition. No funding is available exclusively to send U.S. citizens to conferences or conference-type seminars overseas, nor is funding available for bringing foreign nationals to conferences or to routine professional association meetings in the United States. The Office of Citizen Exchanges does not support academic research or fund faculty or student fellowships.

Program Data Requirements

Successful applicants will be required to maintain specific data on program participants and activities in an electronically accessible database format that can be shared with ECA as required. As a minimum, the data must include the following:

(1) Name, address, contact information and biographic sketch of all persons who travel internationally on funds provided by the grant or who benefit from the grant funding but do not travel.

(2) Itineraries of international and domestic travel, providing dates of travel and cities in which any exchange experiences take place. The ECA Program Officer must receive final schedules for Russian and U.S. activities at least three work days prior to the official opening of the activity.

Evaluation

In order to assess and demonstrate the impact of this program, ECA asks that all proposals include a comprehensive evaluation plan. Proposals must clearly state program objectives that directly respond to the goals included under “General Program Guidelines” above. Each program objective should meet the following criteria:

• Focus on a single purpose and a produce a single result;

• Be realistic;

• Focus on the result of each activity, rather than the activity itself;

• Include some means of measuring success; and

• State a timeframe for achieving results.

Evaluations must demonstrate whether the project has met its stated objectives through comparison to baseline data or control groups identified in the proposal's needs assessment. Evaluation plans may collect quantitative and qualitative data on program results, and these should include at least two means of data collection. Appropriate means of data collection might include written evaluations, interviews, surveys of persons impacted by participants or their work, audits of participants' individual projects, or field observations. Evaluation plans must describe how the applicant will tabulate qualitative data, where the data will be kept, who will have access to such data, and how it will be reported to ECA. If the proposal calls for an outside evaluation, the proposal should include the above information as well as a description of the evaluator's experience. An evaluation report will be due at the end of the program that provides the following information:

(1) A 2-3 page narrative description of the extent to which the program met its objectives;

(2) Summary data in tabular and graphic form that demonstrates these conclusions;

(3) Tabulated raw data for each performance indicator, which may include demographic data for cross-referencing, where appropriate; and

(4) Examples of all data collection instruments used in the evaluation.

Proposals should also include a plan for collecting feedback from participants and stakeholders during the course of the program in order to make mid-course corrections in program content and administration. Proposals should describe how the applicant would apply this information in conducting the program. This information will be required in program interim reports.

Budget Guidelines

Bureau grant guidelines require that organizations with less than four years experience in conducting international exchanges be limited to $60,000 in Bureau funding. Since ECA anticipates awarding one grant that exceeds this amount, organizations that cannot demonstrate at least four years experience in conducting international exchanges are ineligible to apply under this competition.

Applicants must submit a comprehensive budget for the entire program that includes a summary budget as well as breakdowns reflecting both administrative and program budgets in the proposal. Applicants may provide separate sub-budgets for each program component, phase, location, or activity to provide clarification. Please refer to the Proposal Submission Instructions (PSI) for complete budget guidelines and formatting instructions.

Allowable program costs include the following:

1. Travel: International and domestic airfare (per the “Fly America Act”), ground transportation, and visas for U.S. participants. J-1 visas for ECA-supported participants from Russia to travel to the U.S. are issued at no charge.

2. Per Diem: Organizations should not exceed the published Federal per diem rates for individual U.S. cities. ECA strongly encourages applicants to budget realistic amounts that reflect local costs. ECA encourages applicants to arrange volunteer lodging in homestays rather than hotels. Domestic per diem rates may be accessed at: http://policyworks.gov/org/main/mt/homepage/mtt/perdiem/perd04d.html. Foreign per diem rates can be accessed at: http://www.state.gov/m/a/als/prdm/.

3. Interpreters: ECA anticipates that participants will have language skills appropriate for their placement. In cases when applicants can justify the use of interpretation, ECA strongly encourages the use of locally based interpreters. However, applicants may ask ECA to assign U.S. Department of State interpreters for U.S. components, which will decrease the amount of the award. When an applicant proposes to use State Department interpreters, the following expenses should be included in the budget: published Federal per diem rates (both “lodging” and “M&IE”); “home-program-home” transportation in the average amount of $400 per interpreter; reimbursement for taxi fares; and cell phone usage at $10 per week. If the applicant uses State Department interpreters, salary expenses will be covered by ECA and should not be part of an applicant's proposed budget. ECA funds cannot support interpreters who accompany delegations from their home country or travel internationally.

4. Book and cultural allowance: Foreign participants are entitled to a one-time cultural allowance of $150 per person, plus a book allowance of $50. Interpreters should be reimbursed up to $150 for expenses when they escort participants to cultural events. U.S. program staff, trainers, or participants are not eligible to receive these allowances.

5. Consultants: Consultants may provide specialized expertise or to make presentations. Daily honoraria may not exceed $250 per day.

6. Subcontractors: Subcontracting organizations may be used, in which case the written agreement between the prospective grantee and subcontractor should be included in the proposal. Subcontracts should detail the division of responsibilities and proposed costs. Subcontracts should be itemized in the budget.

7. Room rental: Room rental may not exceed $250 per day.

8. Materials development: Proposals may contain costs to purchase, develop and translate materials for participants. ECA strongly discourages the use of automatic translation software for the preparation of training materials or any information distributed to the group of participants or network of organizations. Costs for high-quality translation of materials should be anticipated and included in the budget. Grantee organizations should expect to submit a copy of all program materials to ECA.

9. Equipment: Equipment costs must be kept to a minimum and must have a clear connection to program activities. Costs for furniture are not allowed.

10. Working meal: Only one working meal may be provided during the program. Per capita costs may not exceed $5-8 for a lunch and $14-20 for a dinner, excluding room rental. The number of invited guests may not exceed participants by more than a factor of two. For the purposes of working meals, interpreters may be counted as participants.

11. Return travel allowance: A return travel allowance of $70 for each Russian participant may be included in the budget. The allowance may be used for incidental expenses incurred during international travel.

12. Health Insurance: Foreign participants will be covered under the terms of a Bureau-sponsored health insurance policy. ECA pays the premium directly to the insurance company. Applicants are permitted to include costs for travel insurance for U.S. participants in the budget.

13. Wire transfer fees: When necessary, applicants may include costs to transfer funds to partner organizations overseas. Grantees are urged to research applicable taxes that may be imposed by host governments on these transfers.

14. In-country travel costs for visa processing purposes: Given the new requirements associated with obtaining J-1 visas for Bureau-supported participants, applicants should include costs for participant and/or in-country partner travel and shipping to U.S. embassies or consulates for visa processing purposes, such as interviews and delivery/pick up of DS-2019 forms.

15. Administrative Costs: Costs necessary for the effective administration of the program may include salaries for grantee organization employees, benefits, and other direct and indirect costs per detailed instructions in the Application Package. While there is no rigid ratio of administrative to program costs, priority will be given to proposals whose administrative costs are less than twenty-five (25) percent of the total requested from ECA.

Cost Sharing Requirements

Since Bureau grant assistance constitutes only a portion of total project funding, proposals should list and provide evidence of other anticipated sources of financial and in-kind support. Applicants are strongly encouraged to provide cost sharing to the fullest extent possible. State Department Review Panels will consider cost sharing seriously when evaluating all proposals.

Review Process

Proposals will be deemed ineligible if they do not fully adhere to the guidelines stated herein and in the Solicitation Package. The program office and the Public Affairs Section of the U.S. embassy in Moscow will review all eligible proposals. Eligible proposals will be subject to compliance with Federal and ECA regulations and guidelines and forwarded to Bureau grant panels for advisory review. Proposals may also be reviewed by the Office of the Legal Adviser or by other Department elements. Final funding decisions are at the discretion of the Department of State's Assistant Secretary for Educational and Cultural Affairs. Final technical authority for grants resides with ECA's Grants Officer.

Review Criteria

Technically eligible applications will be competitively reviewed according to the criteria stated below. These criteria are not rank ordered and all carry equal weight in the proposal evaluation:

1. Program Planning and Ability to Achieve Program Objectives: Program objectives should be stated clearly and should respond to the program goals outlined in this announcement. The proposal should clearly describe how each activity would achieve the program objectives. The narrative should provide details on the substance of the program. Detailed, sample agendas should illustrate program content and the pace of each component of the program. The proposal should also include a timetable for completion of major tasks. The proposal should clearly describe the roles and responsibilities of subcontractors and proposed partner organizations in Russia and the United States. Proposals should demonstrate a willingness to consult closely with the designated program officer at ECA, the Public Affairs Section (PAS) at the U.S. embassy in Moscow, and the USRVI Steering Committee.

2. Institutional Capacity: The proposal should reflect the institution's expertise in the subject area, knowledge of the conditions in the target region, and logistical ability to conduct a two-way exchange program. The proposal should provide information about the organization's past experience arranging international internships or volunteer placements, as well as on prior awards received from the U.S. government or the private sector in historical/cultural preservation. The proposal should include descriptions of experienced staff members who will implement the program and any other institutional resources the applicant can offer for use in the proposed program. Proposals should demonstrate an institutional record of successful exchange programs, including responsible fiscal management and full compliance with all reporting requirements for past Bureau grants as determined by Bureau Grant Staff. ECA will consider the past performance of prior grant recipients and the demonstrated potential of new applicants. The proposal should also provide detailed information about the capacity of partner institutions and the history of those partnerships.

3. Cost Effectiveness and Cost Sharing: Overhead and administrative costs in the proposal budget, including salaries, honoraria and subcontracts for services, should be kept to a minimum. Priority will be given to proposals whose administrative costs are less than twenty-five (25) per cent of the total funds requested from ECA. Applicants are strongly encouraged to cost share a portion of overhead and administrative expenses. Cost-sharing, including contributions from the applicant, the in-country partner, and other sources should be included in the budget request. Proposal budgets that do not provide cost sharing will be deemed less competitive in this category.

4. Support of Diversity: Proposals should demonstrate substantive support of ECA's policy on diversity in both program administration (selection of participants, program venues and program evaluation) and program content (orientation and wrap-up sessions, program meetings, resource materials and follow-up activities). ECA encourages applicants to structure cultural activities as meaningful discussions with Russian participants about U.S. diversity rather than visits to landmarks. Applicants should refer to ECA's Diversity, Freedom and Democracy Guidelines in the Proposal Submission Instructions (PSI).

5. Evaluation: Evaluation plans should focus on links between project objectives and results. Proposals should include specific information on means of data collection, data storage, how the information will be presented to ECA, and draft data collection instruments. See the “Evaluation” section (above) for more information on the components of a competitive evaluation plan. Successful applicants must submit interim reports after the conclusion of each project component or on a quarterly basis, whichever is less frequent. A final evaluation of the program will be required at the end of the grant period.

6. Post-Grant Activities: Applicants should provide a plan to conduct activities after the ECA-funded project has concluded in order to ensure that Bureau-supported programs are not isolated events. Proposals that describe how U.S. and Russian volunteers would collaborate on historical preservation efforts in third countries after the grant period will receive higher ratings in this criterion. Funds for all post-grant activities must be in the form of contributions from the applicant or sources outside of ECA. Costs for these activities should not appear in the proposal budget, but should be outlined in the narrative.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals

Important Note: The deadline for this competition is April 23, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and ten (10) copies of the proposal should be sent to: U.S. Department of State, SA-44, Bureau of Educational and Cultural Affairs, Ref.: ECA/PE/C/EUR-04-50, Program Management, ECA/EX/PM, Room 534, 301 4th Street, SW., Washington, DC 20547.

Applicants must also submit the “Executive Summary” and “Proposal Narrative” sections of the proposal in text (.txt) format on a PC-formatted disk. ECA will provide these files electronically to the Public Affairs Section at the U.S. embassy in Moscow for its review.

Diversity, Freedom and Democracy Guidelines

Pursuant to ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” ECA “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by ECA that contradicts published language will not be binding. Issuance of the RFGP does not constitute an award commitment on the part of the Government. ECA reserves the right to reduce, revise, or increase proposal budgets in accordance with the needs of the program and the availability of funds. Awards made will be subject to periodic reporting and evaluation requirements.

Notification

Final awards cannot be made until funds have been appropriated by Congress, allocated and committed through internal Bureau procedures.

Dated: March 17, 2004.
Patricia S. Harrison,
Assistant Secretary for Educational and Cultural Affairs, Department of State.

[FR Doc. 04-6715 Filed 3-24-04; 8:45 am]

BILLING CODE 4710-05-P